DEPARTMENT OF HOMELAND SECURITY

Coast Guard

33 CFR Part 117

[CGD01-03-019]

Drawbridge Operation Regulations: Chelsea River, MA

AGENCY: Coast Guard, DHS.

ACTION: Notice of temporary deviation from regulations.

SUMMARY: The Commander, First Coast Guard District, has issued a temporary deviation from the drawbridge operation regulations for the P.J. McArdle Bridge, mile 0.3, across Chelsea River between East Boston and Chelsea, Massachusetts. Under this temporary deviation a four-hour advance notice will be required for openings at night from March 9, 2003 through April 7, 2003. This temporary deviation is necessary to facilitate repairs at the bridge.

DATES: This deviation is effective from March 9, 2003 through April 7, 2003.

FOR FURTHER INFORMATION CONTACT: John McDonald, Project Officer, First Coast Guard District, at (617) 223-8364.

SUPPLEMENTARY INFORMATION: The P.J. McArdle Bridge has a vertical clearance in the closed position of 21 feet at mean high water and 30 feet at mean low water. The existing drawbridge operation regulations are listed at 33 CFR 117.593.

The bridge owner, the City of Boston, requested a temporary deviation from the drawbridge operation regulations to facilitate necessary maintenance, the replacement of the segmental girders, floor beams, and bascule span balancing, at the bridge. The bridge must remain in the closed position to perform these repairs.

The waterway users who normally navigate the Chelsea River at night are commercial tugs and fuel barges. The Coast Guard coordinated this closure with the mariners and the oil facilities who normally use this waterway to help facilitate this necessary bridge repair and to minimize any disruption to the marine transportation system.

Under this temporary deviation the P.J. McArdle Bridge will open on signal provided a four-hour advance notice is given for openings during the following time periods: March 9, through March 15, from 6 p.m. through 7 a.m., March 16, through March 22, from 8 p.m. through 6 a.m., March 23, through March 29, from 8 p.m. through 6 a.m., March 30, through April 5, from 8 p.m. through 6 a.m., April 6, through April 7, from 8 p.m. through 8 a.m.

The bridge owner did not provide the required thirty-day notice to the Coast Guard for this deviation; however, this deviation was approved because the repairs are necessary repairs that must be performed without delay in order to assure the continued safe reliable operation of the bridge and prevent an unscheduled closure due to component failure.

This deviation from the operating regulations is authorized under 33 CFR 117.35(b), and will be performed with all due speed in order to return the bridge to normal operation as soon as possible.

Dated: March 7, 2003.
Vivien S. Crea,
Rear Admiral, Coast Guard, Commander, First Coast Guard District.

[FR Doc. 03-6640 Filed 3-18-03; 8:45 am]

BILLING CODE 4910-15-P